DEPARTMENT OF COMMERCE

National Oceanic and Atmospheric Administration

Notice of Availability of a Final Regional Restoration Plan for Region 2, for the Louisiana Regional Restoration Program

Summary: Notice is hereby given that a document entitled “Final Regional Restoration Plan for Region 2” is available to the public. This document has been prepared by the state and federal natural resource trustee agencies (National Oceanic and Atmospheric Administration (NOAA); U.S. Department of the Interior (DOI); Louisiana Oil Spill Coordinator's Office (LOSCO); and Louisiana Departments of Environmental Quality (LDEQ); Natural Resources (LDNR); and Wildlife and Fisheries (LDWF)) to address natural resource injuries resulting from discharges of oil in Region 2 of the State of Louisiana.

The Final Regional Restoration Plan for Region 2 is the first of nine regional plans being prepared under the statewide Louisiana Regional Restoration Planning Program developed by NOAA, DOI, and the State of Louisiana.

For Further Information Contact: Requests for copies of the “Final Regional Restoration Plan for Region 2” or for further information, request or contact Tony Penn, Southeast Branch Chief, NOAA/Assessment and Restoration Division, 1305 East-West Highway, SSMC #4, 10th floor, Silver Spring, MD 20910; phone number 301-713-3038 x197; fax number 301-713-4387; e-mail address: Tony.Penn@noaa.gov. Or contact Charles Armbruster, RRP Program Manager, Louisiana Oil Spill Coordinator's Office, 150 Third Street, Suite 405, Baton Rouge, LA 70801; phone number 225-219-5800; fax number 225-219-5802; e-mail address: Charles.Armbruster@losco.state.la.us. When submitting a request, please indicate whether you would like the document on compact disk, a hardcopy, or the Internet address to download an electronic copy.

Supplementary Information: Louisiana's economy is based, in part, on the state's vast natural resources. Both renewable (hunting, fishing, forest products) and nonrenewable (cultural, oil, natural gas) resources are important, and the industries associated with each have coexisted for years. Although Louisiana's oil and gas industry tries to avoid adverse impacts on renewable natural resources, injuries do occur as a result of oil spill incidents. The impact of these incidents on fish, wildlife, and the environment can be significant and adversely affect the industries and communities depending on natural resources for commerce and recreation.

Federal and Louisiana natural resource trustees have developed a statewide Louisiana Regional Restoration Planning Program (RRP Program) to assist them in carrying out their Natural Resource Damage Assessment (NRDA) responsibilities for discharges or substantial threats of discharges of oil. Goals of the statewide Louisiana RRP Program are to: (1) Expedite and reduce the cost of the NRDA process; (2) Provide for consistency and predictability by describing in detail the NRDA process, thereby increasing understanding of the process by the public and industry; and (3) Increase restoration of lost trust resources and services injured by oil spills. The Louisiana RRP Program identifies the statewide program structure, decision-making process, and criteria that are used to select the restoration project(s) that may be implemented to restore the trust resources and services injured by an oil spill.

The Louisiana RRP Program divides the state into nine regions. For each region, a Regional Restoration Plan (RRP) will be developed that identifies: the affected environment and resources; potentially injured trust resources and services; appropriate restoration types for each of the potentially injured resources and services; and available restoration projects that have been identified to date. The Final RRP for Region 2 covers an area of southeast Louisiana, including all or part of the following parishes: Ascension, Assumption, Jefferson, Lafourche, Orleans, Plaquemines, St. Bernard, St. Charles, St. James, and St. John the Baptist.

The natural resource trustees (NOAA, DOI, LOSCO, LDEQ, LDNR, LDWF) are designated pursuant to 33 U.S.C. 2706(c), Executive Order 12777, and the National Contingency Plan, 40 CFR 300.600 and 300.605. Pursuant to La. Rev. Stat. 30:2460, the State of Louisiana Oil Spill Contingency Plan (September 1995) describes the state trust resources to include the following: Vegetated wetlands, surface waters, ground waters, air, soil, wildlife, aquatic life, and the appropriate habitats on which they depend. DOI has been designated as trustee for the natural resources that it manages or controls. Examples of those resources are described in the National Contingency Plan, 40 CFR 300.600(b)(2) and (3), and include the following and their supporting ecosystems: migratory birds, anadromous fish, endangered species and marine mammals, federally owned minerals, certain federally managed water resources, and natural resources located on, over, or under land administered by DOI. NOAA's trust resources include, but are not limited to: commercial and recreational fish species, anadromous and catadromous fish species, marshes and other coastal habitats, marine mammals, and endangered and threatened marine species.

Pursuant to 15 CFR 990.56, the natural resource trustees are authorized to develop regional restoration plans as part of the Oil Pollution Act's mandate for the trustees to restore, rehabilitate, replace, or acquire the equivalent of natural resources and services injured by oil spill incidents and to compensate for interim losses of such resources and services.

The Administrative Record (AR) for the statewide RRP Program and RRP for Region 2 is being maintained at: (1) NOAA Assessment and Restoration Division, SSMC #4, 1305 East-West Highway, Silver Spring, Maryland 20910-3281; (2) Louisiana Oil Spill Coordinator's Office, Suite 405, 150 Third Street, Baton Rouge, LA 70801; and (3) http://www.losco.state.la.us/admin/RRP/RRPprogram_view.asp. The AR includes documents that the trustees relied upon during the development of the Final RRP for Region 2. Pursuant to 15 CFR 990.23 & 990.56, the trustees sought public involvement in developing the Final RRP for Region 2, through public review and comment of the documents contained in the AR, as well as through publication of the “Louisiana Regional Restoration Planning Program Final Programmatic Environmental Impact Statement (FPEIS)”.

Dated: December 11, 2006.
Ken Barton,
Director, Office of Response and Restoration, National Ocean Service, National Oceanic and Atmospheric Administration.

[FR Doc. E6-22484 Filed 1-4-07; 8:45 am]

BILLING CODE 3510-JE-P